FEDERAL COMMUNICATIONS COMMISSION

[Report No. 2605]

Petitions for Reconsideration of Action in Rulemaking Proceedings

April 18, 2003.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, Qualex International (202) 863-2893. Oppositions to these petitions must be filed by May 14, 2003. See Section 1.4(b)(1) of the Commission's rules (47 CFR 1.4(b)(1)). Replies to an opposition must be filed within 10 days after the time for filing oppositions has expired.

Subject: In the Matter of an Amendment of Part 2 of the Commission's Rules to Allocate Spectrum Below 3 GHz for Mobile and Fixed Services to Support the Introduction of New Advanced Wireless Services, including Third Generation Wireless Systems (ET Docket No. 00-258).

Number of Petitions Filed: 4.

Subject: In the Matter of an Amendment of Part 2 of the Commission's Rules to Allocate Spectrum Below 3 GHz for Mobile and Fixed Services to Support the Introduction of New Advanced Wireless Services, including Third Generation Wireless Systems (ET Docket No. 00-258).

The Establishment of Policies and Service Rules for the Mobile-Satellite Service in the 2 GHz Band (IB Docket No. 99-81).

Amendment of the U.S. Table of Frequency Allocations to Designate the 2500-2520/2670-2690 MHz Frequency Bands for the Mobile-Satellite Service (RM-9911) Petition for Rulemaking of the Wireless Information Networks Forum Concerning the Unlicensed Personal Communications Service (RM-9498).

Petition for Rulemaking of UTStarcom, Inc., Concerning the Unlicensed Personal Communications Service (RM-10024).

Number of Petitions Filed: 5.

Marlene H. Dortch,
Secretary.

[FR Doc. 03-10432 Filed 4-28-03; 8:45 am]

BILLING CODE 6712-01-M